DEPARTMENT OF COMMERCE

International Trade Administration

[A-570-579]

Crystalline Silicon Photovoltaic Cells, Whether or Not Assembled Into Modules, From the People's Republic of China: Final Results of the Expedited Second Sunset Review of the Antidumping Duty Order

AGENCY: Enforcement and Compliance, International Trade Administration, Department of Commerce.

SUMMARY: As a result of this expedited second sunset review, the U.S. Department of Commerce (Commerce) finds that revocation of the antidumping duty order on crystalline silicon photovoltaic cells, whether or not assembled into modules, from the People's Republic of China (China) would likely lead to continuation or recurrence of dumping at the level indicated in the “Final Results of Sunset Review” section of this notice.

DATES: Applicable June 6, 2024.

FOR FURTHER INFORMATION CONTACT: Howard Smith, AD/CVD Operations, Office IV, Enforcement and Compliance, International Trade Administration, U.S. Department of Commerce, 1401 Constitution Avenue NW, Washington, DC 20230; telephone: (202) 482-5193.

SUPPLEMENTARY INFORMATION:

Background

On February 1, 2024, Commerce published the initiation of this sunset review ¹ of the Order,² pursuant to section 751(c) of the Tariff Act of 1930, as amended (the Act). After initiation, a domestic interested party ³ timely submitted a notice of intent to participate in,⁴ and an adequate substantive response regarding, the review.⁵ The Alliance claimed domestic interested party status under section 771(9)(C) of the Act as producers of the domestic like product in the United States.⁶ Commerce did not receive a substantive response from any respondent interested party, nor was a hearing requested. Consequently, on March 22, 2024, Commerce notified the International Trade Commission that it did not receive an adequate substantive response from any respondent interested parties.⁷ As a result, pursuant to section 751(c)(3)(B) of the Act and 19 CFR 351.218(e)(1)(ii)(C)(2), Commerce conducted an expedited (120-day) sunset review of the Order.

¹ See Initiation of Five-Year (Sunset) Reviews, 89 FR 6499 (February 1, 2024).

² See Crystalline Silicon Photovoltaic Cells, Whether or Not Assembled Into Modules, from the People's Republic of China: Amended Final Determination of Sales at Less Than Fair Value, and Antidumping Duty Order, 77 FR 73018 (December 7, 2012) (Order).

³ The domestic interested party is the American Alliance for Solar Manufacturing (the Alliance), whose individual members are First Solar, Inc., Hanwha Q CELLS USA, Inc., Heliene USA, Inc., Suniva, Inc., and Mission Solar Energy LLC.

⁴ See Alliance's Letter, “Notice of Intent to Participate in Sunset Review,” dated February 16, 2024.

⁵ See Alliance's Letter, “Substantive Response to Notice of Initiation of Sunset Review,” dated March 4, 2024.

⁶ Id.

⁷ See Commerce's Letter, “Sunset Reviews for February 1, 2024,” dated March 22, 2024; see also 19 CFR 351.218(e)(1)(ii)(C)(1).

Scope of the Order

The merchandise covered by the Order is crystalline silicon photovoltaic cells, and modules, laminates, and panels, consisting of crystalline silicon photovoltaic cells, whether or not partially or fully assembled into other products, including, but not limited to, modules, laminates, panels and building integrated materials.

Merchandise covered by this Order is currently classified in the Harmonized Tariff System of the United States (HTSUS) under subheadings 8501.71.0000, 8501.72.1000, 8501.72.2000, 8501.72.3000, 8501.72.9000, 8501.80.1000, 8501.80.2000, 8501.80.3000, 8501.80.9000, 8507.20.8010, 8507.20.8031, 8507.20.8041, 8507.20.8061, 8507.20.8091, 8541.42.0010, and 8541.43.0010. These HTSUS subheadings are provided for convenience and customs purposes; the written description of the scope of the Order is dispositive. For a complete description of the scope of the Order, see the Issues and Decision Memorandum.⁸

⁸ See Memorandum, “Issues and Decision Memorandum for the Final Results of the Expedited Second Sunset Review of the Antidumping Duty Order on Crystalline Silicon Photovoltaic Cells, Whether or Not Assembled Into Modules, from the People's Republic of China,” dated concurrently with, and hereby adopted by, this notice (Issues and Decision Memorandum).

Analysis of Comments Received

All issues raised in this sunset review are addressed in the Issues and Decision Memorandum. A list of topics discussed in the Issues and Decision Memorandum is included in the appendix to this notice. The Issues and Decision Memorandum is a public document and is on file electronically via the Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Final Results of Sunset Review

Pursuant to sections 751(c)(1), 752(c)(1) and (3) of the Act, Commerce determines that revocation of the Order would likely lead to continuation or recurrence of dumping, and that the magnitude of the dumping margin likely to prevail are weighted-average dumping margins up to 249.96 percent.

Administrative Protective Order

This notice serves as the only reminder to parties subject to administrative protective orders (APO) of their responsibility concerning the return or destruction of proprietary information disclosed under APO in accordance with 19 CFR 351.305(a). Timely notification of the return or destruction of APO materials or conversion to judicial protective order, is hereby requested. Failure to comply with the regulations and terms of an APO is a violation which is subject to sanction.

Notification to Interested Parties

We are issuing and publishing the final results and this notice in accordance with sections 751(c), 752(c), and 777(i)(1) of the Act, and 19 CFR 351.218(e)(1)(ii)(C)(2) and 19 CFR 351.221(c)(5)(ii).

Dated: May 31, 2024.
Abdelali Elouaradia,
Deputy Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Dumping

2. Magnitude of the Margins of Dumping Likely to Prevail

VII. Final Results of Sunset Review

VIII. Recommendation

[FR Doc. 2024-12417 Filed 6-5-24; 8:45 am]

BILLING CODE 3510-DS-P